DEPARTMENT OF COMMERCE

Bureau of the Census

2020 Census Tribal Consultation; Virtual Public Meeting

AGENCY: Bureau of the Census, Department of Commerce.

ACTION: Notice of virtual public meeting and request for comments.

SUMMARY: The Bureau of the Census (Census Bureau) will conduct its first calendar year 2021 tribal consultation meeting on February 18 via national webinar. The tribal consultation meeting reflects the Census Bureau's commitment to strengthen government-to-government relationships with federally recognized tribes. The Census Bureau will provide updates and seek input on the 2020 Census Disclosure Avoidance System (DAS). In preparation for the webinar, the Census Bureau request comments on various questions related to tribes' use of decennial census data.

DATES: The Census Bureau will conduct the tribal consultation webinar on Thursday, February 18, 2021, from 3:00 p.m. to 4:30 p.m. EST. Any questions or topics to be considered in the tribal consultation meetings must be received in writing via email or fax by Thursday, February 18.

ADDRESSES: The Census Bureau tribal consultation webinar meeting will be held via the WebEx platform at the following presentation link: https://uscensus.webex.com/uscensus/onstage/g.php?MTID=e83f743e02f061c59b12ef423aee8a8b6.

If the webinar requires a password, type Census#1. For audio, please call the following number: 1-877-717-2157. When prompted, please use the following Participant Code: 5229469.

Please direct all written comments via email or fax to Dee Alexander, Tribal Affairs Coordinator, Office of Congressional and Intergovernmental Affairs, Intergovernmental Affairs Office, U.S. Census Bureau Washington, DC 20233; fax (301) 763-3780; or by email at Dee.A.Alexander@census.gov or ocia.tao@census.gov.

FOR FURTHER INFORMATION CONTACT: Dee Alexander, Tribal Affairs Coordinator, Office of Congressional and Intergovernmental Affairs, Intergovernmental Affairs Office, U.S. Census Bureau, Washington, DC 20233; telephone (301) 763-9335; fax (301) 763-3780; or by email at Dee.A.Alexander@census.gov or ocia.tao@census.gov.

SUPPLEMENTARY INFORMATION:

Background

The Census Bureau's procedures for outreach, notice, and consultation ensure involvement of tribes, to the extent practicable and permitted by law, before making decisions or implementing policies, rules, or programs that affect federally recognized tribal governments. These meetings are open to citizens of federally recognized tribes by invitation.

The Census Bureau's Decennial Directorate and the Intergovernmental Affairs Office have been responsible for the development and implementation of outreach and promotion activities to assist in obtaining a complete and accurate census count in 2020 among all residents, including the American Indian and Alaska Native populations. This program is one part of the overall outreach and promotion efforts directed at building awareness about the importance of the Census Bureau's commitment to produce quality 2020 Census American Indian and Alaska Native data for all tribal communities and organizations.

In accordance with Executive Order 13175, Consultation and Coordination with Indian Tribal Governments, issued November 6, 2000, the Census Bureau has adhered to its tribal consultation policy by seeking the input of tribal governments in the planning and implementation of the 2020 Census with the goal of ensuring the most accurate counts and data for the American Indian and Alaska Native population. The Census Bureau conducted one national tribal consultation webinar in September 2019 and two formal tribal consultation meetings in October 2019 and February 2020 specific to the 2020 Census Disclosure Avoidance System. The February 18 national webinar will provide a forum for tribes to receive an update and to provide input on the 2020 Census Disclosure Avoidance System regarding work done specifically for the American Indian and Alaska Native tribal areas.

For more information, please see the following URL link: https://www.census.gov/programs-surveys/decennial-census/2020-census/planning-management/2020-census-data-products/2020-das-updates.html.

In preparation for the February 18 webinar, we are seeking comments in response to the specific questions on the 2020 Census Disclosure Avoidance System and the American Indian and Alaska Native Geography Hierarchy.

Request for Comments

Question 1

How does your tribe use data from the redistricting (Pub. L. 94-171) data product? Please be specific as to the use, variable(s), and level(s) of geography.

Example: Our tribal government uses total population counts at the Census tract level, as a percentage of the total state population, to apply for state administered social assistance grants.

Question 2

How does your tribe use data from the Demographic Profiles and Demographic and Housing Characteristics data products? Please be specific as to the use, variable(s), and level(s) of geography.

Example: Our native village uses average household size and race/ethnicity composition at the block group level to apply for state administered housing grants, which accounted for 27% of our annual housing assistance budget in 2019.

Question 3

With the understanding that protecting the privacy of Census respondents requires that some uncertainty/noise be added to the data (as it has been in prior Censuses), which of the use cases that you identified in question #1 are most important to your tribe?

Question 4

With the understanding that protecting the privacy of Census respondents requires that some uncertainty/noise be added to the data (as it has been in prior Censuses), at what level of statistical uncertainty would the tabulations included in the redistricting (Pub. L. 94-171), Demographic Profiles, or Demographic and Housing Characteristics files no longer be usable for the use cases that you identified in question #1.

Example: If total population at the Census tract level differed from the enumerated count by more than ±3%, our tribe would be obligated to rely on other data sources as evidence to support our grant applications.” Or “If the AIAN Alone or in Combination population of our county differed from the enumerated count by more than 10 persons, we would be unable to rely upon the data for our tribe's demographic projections because they would be less accurate than the data we collect ourselves.

Steven D. Dillingham, Director, Bureau of the Census, approved the publication of this Notice in the Federal Register.

Dated: January 14, 2021.
Sheleen Dumas,
Department PRA Clearance Officer, Office of the Chief Information Officer, Commerce Department.

[FR Doc. 2021-01240 Filed 1-19-21; 8:45 am]

BILLING CODE 3510-07-P